DEPARTMENT OF COMMERCE

International Trade Administration

[A-570-909]

Certain Steel Nails From the People's Republic of China: Amended Final Results of Antidumping Duty Administrative Review; 2014-2015

AGENCY: Enforcement and Compliance, International Trade Administration, Commerce.

SUMMARY: The Department of Commerce (the Department) is amending its final results of the administrative review of the antidumping duty order on certain steel nails (nails) from the People's Republic of China (PRC) for the period is August 1, 2014, through July 31, 2015 to correct ministerial errors. The amended final weighted-average dumping margins for the reviewed firms are listed below in the section entitled, “Amended Final Results.”

DATES: Effective April 26, 2017.

FOR FURTHER INFORMATION CONTACT: Susan Pulongbarit or Omar Qureshi, AD/CVD Operations, Office V, Enforcement and Compliance, International Trade Administration, U.S. Department of Commerce, 1401 Constitution Avenue NW., Washington, DC 20230; telephone 202-482-4031 or 202-482-5307, respectively.

SUPPLEMENTARY INFORMATION:

Background

On March 20, 2017, the Department published the final results of the 2014-2015 administrative review in the Federal Register.¹ On March 22, 2017, The Stanley Works (Langfang) Fastening Systems Co., Ltd. and Stanley Black & Decker, Inc. (collectively Stanley) filed a timely allegation that the Department made a ministerial error in the Final Results and requested, pursuant to 19 CFR 351.224(f), that the Department correct the ministerial error. We received a timely reply to Stanley's comments from Mid Continent Steel & Wire, Inc. (the petitioner) on March 27, 2017, and a request that the Department correct an additional ministerial error.

¹ See Certain Steel Nails from the People's Republic of China: Final Results of Antidumping Duty Administrative Review, Final Determination of No Shipments and Final Partial Rescission; 2014-2015, 82 FR 14344 (March 20, 2017) (Final Results).

Scope of the Order

The merchandise covered by the order includes certain steel nails having a shaft length up to 12 inches. Certain steel nails subject to the order are currently classified under the Harmonized Tariff Schedule of the United States (“HTSUS”) subheadings 7317.00.55, 7317.00.65, 7317.00.75, and 7907.00.6000.² The HTSUS subheadings are provided for convenience and customs purposes only. The written description is dispositive.³

² The Department recently added the Harmonized Tariff Schedule category 7907.00.6000, “Other articles of zinc: Other,” to the language of the Order. See Memorandum to Gary Taverman, Senior Advisor for Antidumping and Countervailing Duty Operations, through James C. Doyle, Director, Office 9, Antidumping and Countervailing Duty Operations, regarding “Certain Steel Nails from the People's Republic of China: Cobra Anchors Co. Ltd. Final Scope Ruling,” (September 19, 2013).

³ A full description of the scope of the order is contained in the memorandum from James C. Doyle, Director, Office V, Enforcement and Compliance, to Gary Taverman, Associate Deputy Assistant Secretary for Antidumping and Countervailing Duty Operations, “Seventh Administrative Review of Certain Steel Nails from the People's Republic of China: Ministerial Error Memorandum” (Ministerial Error Memorandum), dated concurrently with this notice and incorporated herein by reference.

Amended Final Results

Section 751(h) of the Tariff Act of 1930, as amended (the Act), defines “ministerial error” as including “errors in addition, subtraction, or other arithmetic function, clerical errors resulting from inaccurate copying, duplication, or the like, and any other type of unintentional error which the administering authority considers ministerial.” ⁴ After analyzing all parties' comments, we have determined in accordance with section 751(h) of the Act and 19 CFR 351.224(f), that certain ministerial errors were made in the Final Results. For a detailed discussion of these ministerial errors, as well as the Department's analysis of these errors, see Ministerial Error Memorandum.

⁴ See also 19 CFR 351.224(f).

In accordance with section 751(h) of the Act and 19 CFR 351.224(e), we are amending the Final Results of this administrative review of nails from the PRC. The rate for the companies not selected for individual examination is equal to the calculated margin of the sole mandatory respondent, Stanley, whose margin is not zero, de minimis, or based entirely on adverse facts available. The dumping margins for the administrative review are as follows:

⁵ Although, the Department initiated this administrative review on Tianjin Universal Machinery Import and Export Corp., the company name, Tianjin Universal Machinery Imp. & Exp. Corporation. was the only name listed in the business license that was submitted in the separate rate application. Accordingly, the Department clarifies that it granted a separate rate to Tianjin Universal Machinery Imp. & Exp. Corporation.

Exporter | Weighted- average margin (percent)
The Stanley Works (Langfang) Fastening Systems Co., Ltd. and Stanley Black & Decker, Inc | 5.78
Dezhou Hualude Hardware Products Co., Ltd | 5.78
Hebei Cangzhou New Century Foreign Trade Co., Ltd | 5.78
Mingguang Ruifeng Hardware Products Co., Ltd | 5.78
Nanjing Caiqing Hardware Co., Ltd | 5.78
Qingdao D&L Group Ltd | 5.78
SDC International Aust. PTY. Ltd | 5.78
Shandong Dinglong Import & Export Co., Ltd | 5.78
Shanghai Curvet Hardware Products Co., Ltd | 5.78
Shanghai Yueda Nails Industry Co., Ltd | 5.78
Shanxi Hairui Trade Co., Ltd | 5.78
Shanxi Pioneer Hardware Industrial Co., Ltd | 5.78
Shanxi Tianli Industries Co., Ltd | 5.78
S-Mart (Tianjin) Technology Development Co., Ltd | 5.78
Suntec Industries Co., Ltd | 5.78
Tianjin Jinchi Metal Products Co., Ltd | 5.78
Tianjin Jinghai County Hongli Industry & Business Co., Ltd | 5.78
Tianjin Universal Machinery Imp. & Exp. Corporation ⁵ | 5.78

Disclosure

We intend to disclose the calculations performed for these amended final results of review within five days of the date of publication of this notice in the Federal Register, in accordance with 19 CFR 351.224(b).

Assessment Rates

The Department shall determine and U.S. Customs Border Protection shall assess antidumping duties on all appropriate entries covered by this review pursuant to section 751(a)(2)(A) of the Act and 19 CFR 351.212(b).

Where the respondent reported reliable entered values, we calculated importer- (or customer-) specific ad valorem rates by aggregating the dumping margins calculated for all U.S. sales to each importer (or customer) and dividing this amount by the total entered value of the sales to each importer (or customer).⁶ Where the Department calculated a weighted-average dumping margin by dividing the total amount of dumping for reviewed sales to that party by the total sales quantity associated with those transactions, the Department will direct CBP to assess importer-specific assessment rates based on the resulting per-unit rates.⁷ Where an importer- (or customer-) specific ad valorem or per-unit rate is greater than de minimis (i.e., 0.50 percent), the Department will instruct CBP to collect the appropriate duties at the time of liquidation.⁸ Where an importer- (or customer-) specific ad valorem or per-unit rate is zero or de minimis, the Department will instruct CBP to liquidate appropriate entries without regard to antidumping duties.⁹ We intend to instruct CBP to liquidate entries containing subject merchandise exported by the PRC-wide entity at the PRC-wide rate.

⁶ See 19 CFR 351.212(b)(1).

⁷ Id.

⁸ Id.

⁹ See 19 CFR 351.106(c)(2).

Pursuant to the Department's assessment practice, for entries that were not reported in the U.S. sales databases submitted by companies individually examined during this review, the Department will instruct CBP to liquidate such entries at the PRC-wide entity rate. Additionally, if the Department determines that an exporter had no shipments of the subject merchandise, any suspended entries that entered under that exporter's case number (i.e., at that exporter's rate) will be liquidated at the PRC-wide entity rate.¹⁰

¹⁰ See Non-Market Economy Antidumping Proceedings: Assessment of Antidumping Duties, 76 FR 65694 (October 24, 2011).

Cash Deposit Requirements

The following cash deposit requirements will be effective retroactively on any entries made on or after March 20, 2017, the date of publication of the Final Results, for all shipments of the subject merchandise entered, or withdrawn from warehouse, for consumption on or after the publication date, as provided for by section 751(a)(2)(C) of the Act: (1) For the exporters listed above, the cash deposit rate will be the rate established in the “Amended Final Results” section (except, if the rate is zero or de minimis, a zero cash deposit rate will be required for that company); (2) for previously investigated or reviewed PRC and non-PRC exporters not listed above that have separate rates, the cash deposit rate will continue to be the exporter-specific rate published for the most recent period. (3) for all PRC exporters of subject merchandise which have not been found to be entitled to a separate rate, the cash deposit rate will be the PRC-Wide rate of 118.04 percent; and (4) for all non-PRC exporters of subject merchandise which have not received their own rate, the cash deposit rate will be the rate applicable to the PRC exporters that supplied that non-PRC exporter. The deposit requirements, when imposed, shall remain in effect until further notice.

Notification to Importers

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

These amended final results and notice are issued and published in accordance with sections 751(h) and 777(i) of the Act and 19 CFR 351.224(e).

Dated: April 19, 2017.
Ronald Lorentzen,
Acting Assistant Secretary for Enforcement and Compliance.

[FR Doc. 2017-08421 Filed 4-25-17; 8:45 am]

BILLING CODE 3510-DS-P